DEPARTMENT OF TRANSPORTATION

Pipeline and Hazardous Materials Safety Administration

Office of Hazardous Materials Safety; Notice of actions on Special Permit Applications

AGENCY: Pipeline And Hazardous Materials Safety Administration (PHMSA), DOT.

ACTION: Notice of actions on Special Permit Applications.

SUMMARY: In accordance with the procedures governing the application for, and the processing of, special permits from the Department of Transportation's Hazardous Material Regulations (49 CFR part 107, Subpart B), notice is hereby given of the actions on special permits applications in (August to August 2014) The mode of transportation involved are identified by a number in the “Nature of Application” portion of the table below as follows: 1—Motor vehicle, 2—Rail freight, 3—Cargo vessel, 4—Cargo aircraft only, 5—Passenger-carrying aircraft. Application numbers prefixed by the letters EE represent applications for Emergency Special Permits. It should be noted that some of the sections cited were those in effect at the time certain special permits were issued.

Issued in Washington, DC, on September 05, 2014.
Donald Burger,
Chief, Special Permits and Approvals Branch.

S.P No. | Applicant | Regulation(s) | Nature of special permit thereof
MODIFICATION SPECIAL PERMIT GRANTED
15854-M | Colmac Coil Manufacturing, Inc., Colville, WA | 49 CFR 173.222, IMDG Code, Special Provision 301 | To modify the special permit originally issued on an emergency basis to routine with a two year renewal as well as to increase the size of authorized units. | 11826-M | Linde Gas North America, LLC., Murray Hill, NJ | 49 CFR 173.302(a)(5) | To modify the special permit to authorize the requalification of cylinders manufactured in accordance with DOT-SP 12399 and 14546, and the use of ultrasonic requalification.
11536-M | Boeing Company, The Los Angeles, CA | 49 CFR 173.102 Spec. Prov. 101, 173.24(g), 173.62, 173.185, 173.202; 173.211, and 173.304 | To modify the special permit to authorize new shipping and storage containers.
11650-M | Autoliv ASP, Inc., Ogden, UT | 49 CFR 173.301(a)(1), and 173.302a(a) | To modify the special permit to authorize an increase to the maximum service pressure.
15860-M | Apple Inc., Cupertino, CA | 49 CFR 173.185(a) | To modify the special permit to authorize cargo aircraft as a mode of transportation.
NEW SPECIAL PERMIT GRANTED
16115-N | Advanced Cooling Technologies, Inc., Lancaster, PA | 49 CFR 173.301(f), 137.302(a)(1), 173.304(a)(2) | To authorize the transportation of anhydrous ammonia in alternative packaging (heat pipes). (modes 1, 3, 4).
16102-N | Brenntag Mid-South, Inc., Henderson, KY | 49 CFR 173.3(e)(2) | To authorize the transportation in commerce of a DOT 106A500 multi-unit tank car tank containing chlorine or sulfur dioxide that has developed a leak in the valve or fusible plug that has been temporarily repaired using a Chlorine Institute “B” Kit, Edition 11. (mode 1).
16122-N | ATK LAUNCH SYSTEMS INC., Corrine, UT | 49 CFR 172.320, 173.54(a), 173,56(b), 175.57, 173.58 and 173.60 | To authorizes the transportation in commerce of not more than 25 grams of Division 1.4 materials and pyrotechnic materials in a special shipping container. (modes 1, 3, 4).
16166-N | Sparkle International, Inc., Bedford, OH | 49 CFR 173.6(a)(1)(ii) | To authorize the transportation in commerce of a Class 8, PG II material in a custom designed packaging as a material of trade when the mass or capacity limits are exceeded. (mode 1).
EMERGENCY SPECIAL PERMIT GRANTED
16209-M | Atlas Air, Inc., Purchase, NY | 49 CFR 172.101 Column (9B), 172.204(c)(3), 173.27, and 175.30(a)(1) | To modify the special permit to increase the net explosive weight to 1778 pounds. (modes 1, 4).
16067-N | E.I. duPont de Nemours and Company, WILMINGTON, DE | 49 CFR 171.25(c) | To authorize the transportation in commerce of a Division 2.2 compressed gas in non-DOT specification bulk packaging. (modes 1, 3).
16171-N | Ozark Automotive Distributors, Springfield, MO | 49 CFR 173.159 | To authorize the transportation in commerce of batteries in alternative packaging by motor vehicle. (mode 1).
16209-N | Atlas Air, Inc., Washington, DC | 49 CFR 172.101 Column (9B), 172.204(c)(3), 173.27, and 175.30(a)(1) | To authorize the transportation in commerce of forbidden explosives by cargo aircraft. (modes 1, 4).
NEW SPECIAL PERMIT WITHDRAWN
16206-N | Demex International Inc., Picayune, MS | 49 CFR 176.116(e) | To authorize the transportation in commerce of certain Class 1 materials by vessel in an alternative stowage configuration. (mode 3).
EMERGENCY SPECIAL PERMIT WITHDRAWN
16197-N | Controlled Demolition, Inc., Phoenix, MD | 49 CFR §§ 173.163, 173.212, 173.227, 173.244, 173.304, 173.304a, 176.3(a) and 176.27(a) | To authorize the one-way transportation in commerce by cargo vessel certain hazardous materials in alternative packaging. (mode 3).

DENIED
11834-M | Request by Ashland, Inc. Dublin, OH, August 27, 2014. To modify the special permit to authorize two Class 8 materials.
12412-M | Request by Chemquest, Inc. Lakeville, MN, August 01, 2014. To modify the special permit to allow residue to remain in hoses while in transportation.
6263-M | Request by Amtrol, Inc. West Warwick, RI, August 27, 2014. To modify the special permit to provide relief from 173.306(g).
11156-M | Request by Buckley Powder Co. Englewood, CO, August 27, 2014. To modify the special permit to authorize cargo vessel as an authorized mode of transport.
16040-N | Request by Multistar Ind., Inc. Othello, WA, August 27, 2014. To authorize the transportation in commerce of certain portable tanks and cargo tanks containing anhydrous ammonia that do not have manufacturer's data reports required by 49 CFR 180.6050).
16184-N | Request by Pacific Scientific PSEMC Hollister, CA August 27, 2014. Special Permit Regarding Outer Container P/N 161454.
14924-M | Request by Explosive Service International Ltd., Baton Rouge, LA August 27, 2014. To modify the special permit to waive the requirement for a steel deck on a vessel.
14924-M | Request by Poe, William T & Associates Inc. DBA Explosive Service International Ltd. Baton Rouge, LA August 27, 2014. To remove the Division 1.1 detonators from the permit and authorize an aluminum deck when a 2 inch air gap is provided between the deck and the container.

[FR Doc. 2014-23478 Filed 10-1-14; 8:45 am]

BILLING CODE 4909-60-M